FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011962-015.

Agreement Name: Consolidated Chassis Management Pool Agreement.

Parties: American President Lines, Ltd.; APL Co. Pte. Ltd.; CMA CGM S.A.; COSCO Shipping Lines Co., Ltd.; Evergreen Line Joint Service Agreement; Hamburg Sud; Hapag-Lloyd AG; Hapag-Lloyd USA, LLC; Hyundai Merchant Marine Co., Ltd.; Maersk Line A/S; Matson Navigation Company, Inc.; Mediterranean Shipping Company S.A.; Orient Overseas Container Line Limited; Westwood Shipping Lines, Inc.; Yang Ming Marine Transport Corporation; Zim Integrated Shipping Services Ltd.; and Ocean Network Express Pte. Ltd.

Filing Party: Donald Kassilke; Cozen O'Connor.

Synopsis: The amendment deletes Mitsui O.S.K. Lines, Ltd.; Nippon Yusen Kaisha Line; and Kawasaki Kisen Kaisha, Ltd. as parties due to the creation of Ocean Network Express Pte. Ltd., and redesignates Yang Ming Marine Transport Corp. as a non-OCEMA ocean common carrier party to the agreement due to its earlier withdrawal from OCEMA.

Proposed Effective Date: 12/17/2018.

Location: https://www2.fmc.gov/FMC.Agreements.Web/Public/AgreementHistory/454.

Dated: December 21, 2018.
Rachel Dickon,
Secretary.

[FR Doc. 2018-28407 Filed 12-28-18; 8:45 am]

BILLING CODE 6731-AA-P